FEDERAL COMMUNICATIONS COMMISSION

47 CFR Part 73

[DA 05-2949; MB Docket No. 05-305; RM-11137]

Radio Broadcasting Services; Lometa, and Richland Springs, TX

AGENCY: Federal Communications Commission.

ACTION: Proposed rule.

SUMMARY: This document requests comments on a petition for rulemaking filed by Charles Crawford, requesting the allotment of Channel 253A at Lometa, Texas, as the community's second local aural transmission service. In order for Channel 253A to be allotted to Lometa, the Notice proposes the substitution of Channel 235A for vacant Channel 252A at Richland Springs, Texas. Channel 253A can be allotted at Lometa, Texas, at Petitioner's requested site 11.7 kilometers (7.3 miles) northwest of the community at coordinates 31-18-45 NL and 98-26-45 WL. Channel 235A can be substituted for vacant Channel 252A at Richland Springs consistent with the minimum distance separation requirements of the Commission's Rules at Petitioner's requested site 9.4 kilometers (5.8 miles) southwest of the community at coordinates 31-12-30 NL and 99-00-45 WL.

DATES: Comments must be filed on or before January 3, 2006, and reply comments on or before January 17, 2006. Any counterproposal filed in this proceeding need only protect Stations KELI(FM), San Angelo, Texas, and Station KAMX(FM) Luling, Texas, as Class C0 allotments.

ADDRESSES: Federal Communications Commission, 445 Twelfth Street, SW., Washington, DC 20554. In addition to filing comments with the FCC, interested parties should serve the petitioner, and Stations KELI(FM) and KAMX(FM) as follows: Charles Crawford, 553 Bordeaux Avenue, Dallas, Texas 75205 (Petitioner) Jennifer M. Babin, Esq., Leventhal, Senter & Lerman PLLC, 2000 K Street, NW., Suite 600, Washington, DC 20006-1809, Texas Infinity Radio, LP, 2000 K Street, NW., Suite 725, Washington, DC 20006-1809 (KELI(FM)); Kathleen Kirby, Esq., Wiley, Rein & Fielding, 1776 K Street, NW., Washington, DC 20006, Encore Broadcasting of San Angelo, LLC, 3303 N. Midkiff, Suite 115, Midland, Texas 79705.

FOR FURTHER INFORMATION CONTACT: Victoria McCauley, Media Bureau, (202) 418-2180.

SUPPLEMENTARY INFORMATION: This is a synopsis of the Commission's Notice of Proposed Rule Making, MB Docket No. 05-305, adopted November 9, 2005, and released November 10, 2005. The full text of this Commission decision is available for inspection and copying during normal business hours in the FCC's Reference Information Center at Portals II, CY-A257, 445 Twelfth Street, SW., Washington, DC. This document may also be purchased from the Commission's duplicating contractors, Best Copy and Printing, Inc. (BCPI), 445 12th Street, Suite C4-B402, Washington, DC 20554, telephone 1-800-378-3160 or http://www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Texas, is amended by adding Channel 253A at Lometa, by removing Channel 252A and adding Channel 235A at Richland Springs.

Federal Communications Commission.
John A. Karousos,
Assistant Chief, Audio Division, Media Bureau.

[FR Doc. 05-23184 Filed 11-22-05; 8:45 am]

BILLING CODE 6712-01-P